DEPARTMENT OF HEALTH AND HUMAN SERVICES

Administration for Children and Families

[Program Announcement No. ACYF/CB-2002-01]

Announcement of the Availability of Financial Assistance and Request for Applications To Support Adoption Opportunities Demonstration Projects, the Abandoned Infants Assistance Resource Center, Migrant and Tribal Community-Based Family Resource and Support Programs, and a Community-Based Family Resource and Support Resource Center

AGENCY: Administration on Children, Youth and Families (ACYF), ACF, DHHS.

ACTION: Notice.

Statutory Authority and Catalog of Federal Domestic Assistance (CFDA) Numbers

Adoption Opportunities: Title II of the Child Abuse Prevention and Treatment and Adoption Reform Act of 1978, as amended, [42 USC 5111] CFDA: 93.652.

Children's Health Act of 2002: Section 330G Subpart I of part D of title III of the Public Health Service Act, as amended [42 USC 254c-7] CFDA: 93.254.

Abandoned Infants: Section 101 of the Abandoned Infants Assistance Act, as amended [42 USC 670 note] CFDA: 93.551.

Community-Based Family Resource and Support: Title II, Sec. 201 of the Child Abuse Prevention and Treatment Act, as amended [42 USC 5116 et seq.] CFDA: 93.590.

SUMMARY: The Children's Bureau (CB) within the Administration on Children, Youth and Families (ACYF), Administration for Children and Families (ACF) announces the availability of fiscal year (FY) 2002 funds for competing new Adoption Opportunities Program and Abandoned Infants Assistance. Funds from the Adoption Opportunities Program are designed to provide support for demonstration projects that facilitate the elimination of barriers to adoption and provide permanent loving homes for children who would benefit from adoption, particularly children with special needs. Funds from the Adoption Opportunities Program and the Children's Health Act of 2002 support the National Adoption Internet Photolisting Service Information Exhcange and Special Needs Adoption Recruitment and Adoptive Family Support Project. Funds from section 101 of the Abandoned Infants Assistance Act, as amended [42 USC 670 note] support the National Resource Center for Programs Serving Abandoned Infants and Infants at Risk of Abandonment and Their Families. The Center provides State and local, private, non-profit agencies and organizations with access to information, methods, techniques and strategies for establishing an effective, coordinated range of comprehensive social and health care services to infants and young children and their families impacted by substance abuse and/or HIV infection. Funds from Title II, Sec. 201 of the Child Abuse Prevention and Treatment Act (CAPTA) support the Community-Based Family Resource and Support resource center and programs.

DATES: The closing time and date for receipt of applications is 4:30 p.m. (Eastern time Zone) on May 30, 2002. Mailed or hand-carried applications received after 4:30 p.m. on the closing date will be classified as late.

Note: The complete program announcement, including all necessary forms, can be downloaded and printed from the Children's Bureau web site at www.acf.dhhs.gov/programs/cb. Hard copies of the complete program announcement may be requested by calling the National Adoption Information Clearinghouse at 1-888-251-0075. The complete program announcement is necessary for any potential applicant.

FOR FURTHER INFORMATION CONTACT: Sally Flanzer, Children's Bureau, 202-205-8914.

SUPPLEMENTARY INFORMATION:

Priority Areas

2001A. Adoption Opportunities

2002A.1 Developing Models for Increasing Adoptive Placement of Minority Children

Eligible Applicants: States, local government entities, federally recognized Indian Tribes and tribal organizations, college and universities, public or private non-profit licensed child welfare or adoption agencies, licensed child care or respite care providers, and incorporated adoptive parent groups with experience working with adoptive populations may apply. Faith-based organizations are eligible to apply for these grants. Groups of faith-based and smaller community-based organizations should consider collaborating with existing coalitions or to form new coalitions to work together in conducting projects; however, each coalition must identify a primary applicant responsible for administering the grant. Faith-based, community-based and primary applicants in consortia must be otherwise eligible to apply for these grants. Colleges, universities and for-profit agencies may be included in an application, as a subcontractor or affiliate, but must waive their profit in order to receive Federal funds even under subgrant or subcontract arrangements, with eligible non-profit agencies and organizations.

Project Duration: This announcement is inviting applications for project periods up to three years. Awards, on a competitive basis, will be for a one-year budget period, although project periods may be for three years. Applications for continuation grants funded under these awards beyond the one-year budget period but within the three year project period will be entertained in subsequent years on a noncompetitive basis, subject to availability of funds, satisfactory progress of the grantee and a determination that continued funding would be in the best interest of the Government.

Federal Share of Project Cost: Grant amounts will vary and may range from $50,000 to $300,000 per budget period for each of three years. The dollar amount requested must be fully justified and documented.

Matching Requirements: Grantees must provide at least 10 percent of the total approved cost of the project. The total approved cost of the project is the sum of the ACF share and the non-Federal share. The non-Federal share may be met by cash or in-kind contributions, although applicants are encouraged to meet their match requirements through cash contributions. Therefore, a project requesting $900,000 of Federal funds (based on an award of $300,000 per budget period) must provide a match of at least $99,999 (10 percent of the total project cost). Grantees will be held accountable for commitments of non-Federal resources even if over the amount of the required match. Failure to provide the amount will result in disallowance of Federal match.

Anticipated Number of Projects to be Funded: It is anticipated that four projects will be funded.

2002.A2 Developing Models for Post-Legal Adoption Services

Eligible Applicants: States, local government entities, federally recognized Indian Tribes and tribal organizations, college and universities, public or private non-profit licensed child welfare or adoption agencies, licensed child care or respite care providers, and incorporated adoptive parent groups with experience working with adoptive populations may apply. Faith-based organizations are eligible to apply for these grants. Groups of faith-based and smaller community-based organizations should consider collaborating with existing coalitions or to form new coalitions to work together in conducting projects; however, each coalition must identify a primary applicant responsible for administering the grant. Faith-based, community-based and primary applicants in consortia must be otherwise eligible to apply for these grants. Colleges, universities and for-profit agencies may be included in an application as subcontractors or affiliates, but must waive their profit in order to receive Federal funds even under subgrant or subcontract arrangements, with eligible non-profit agencies and organizations.

Project Duration: This announcement is inviting applications for project periods up to three years. Awards, on a competitive basis, will be for a one-year budget period, although project periods may be for three years. Applications for continuation grants funded under these awards beyond the one-year budget period but within the three year project period will be entertained in subsequent years on a noncompetitive basis, subject to availability of funds, satisfactory progress of the grantee and a determination that continued funding would be in the best interest of the Government.

Federal Share of Project Cost: Grant amounts will vary and may range from $50,000 to $300,000 per budget period for each of the three years. The dollar amount requested must be justified as appropriate to the activities proposed.

Matching Requirements: Grantees must provide at least 10 percent of the total approved cost of the project. The total approved cost of the project is the sum of the ACF share and the non-Federal share. The non-Federal share may be met by cash or in-kind contributions, although applicants are encouraged to meet their match requirements through cash contributions. Therefore, a project requesting $900,000 of Federal funds (based on an award of $300,000 per budget period) must provide a match of at least $99,999 (10 percent of the total project cost). Grantees will be held accountable for commitments of non-Federal resources even if over the amount of the required match. Failure to provide the amount will result in disallowance of Federal match.

Anticipated Number of Projects to be Funded: It is anticipated that four projects will be funded.

2002A.3 Developing Models of Respite Care as a Service for Families Who Adopt Children With Special Needs

Eligible Applicants: States, local government entities, federally recognized Indian Tribes and tribal organizations, college and universities, public or private non-profit licensed child welfare or adoption agencies, licensed child care or respite care providers, and incorporated adoptive parent groups with experience working with adoptive populations may apply. Faith-based organizations are eligible to apply for these grants. Groups of faith-based and smaller community-based organizations should consider collaborating with existing coalitions or to form new coalitions to work together in conducting projects; however, each coalition must identify a primary applicant responsible for administering the grant. Faith-based, community-based and primary applicants in consortia must be otherwise eligible to apply for these grants. Colleges, universities and for-profit agencies may be included in an application as subcontractors or affiliates, but must waive their profit in order to receive Federal finds even under subgrant or subcontract arrangements, with eligible non-profit agencies and organizations.

Project Duration: This announcement is inviting applications for project periods up to three years. Awards, on a competitive basis, will be for a one-year budget period, although project periods may be for three years. Applications for continuation grants funded under these awards beyond the one-year budget period but within the three year project period will be entertained in subsequent years on a noncompetitive basis, subject to availability of funds, satisfactory progress of the grantee and a determination that continued funding would be in the best interest of the Government.

Federal Share of Project Costs: Grant amounts will vary and may range from $50,000 to $300,000 per budget-year for each of the three years.

Matching or Cost Sharing Requirement: Grantee must provide at least 10 percent of the total approved cost of the project. The total approved cost of the project is the sum of the ACF share and the non-Federal share. The non-Federal share may be met by cash or in-kind contributions, although applicants are encouraged to meet their match requirements through cash contributions. Therefore, a project requesting $900,000 of Federal funds (based on an award of $300,000 per budget period) must provide a match of at least $99,999 (10 percent of the total project cost). Grantees will be held accountable for commitments of non-Federal resources even if over the amount of the required match. Failure to provide the amount will result in disallowance of Federal match.

Anticipated Number of Projects to be Funded: It is anticipated that four projects will be funded.

2002A.4 National Adoption Internet Photolisting Service-AdoptUSKids, the National Adoption Information Exchange System, and Special Needs Adoption Recruitment and Adoptive Family Support Project

Eligible Applicants: Any national, State, or local government entity, public or private non-profit agency, organization or university with demonstrated experience in adoption and the ability to maintain a National Adoption Internet Photolisting Service-AdoptUSKids, the National Adoption Information Exchange System, and mount a special needs adoption recruitment and adoptive family support activity. Faith-based organizations are eligible to apply for this grant but also must be otherwise eligible. The Children's Bureau will accept applications that represent partnerships with private non-profit agencies, organizations, universities, and foundations with experience in adoption and child welfare issues and subcontracts with firms specializing in these tasks. Applications representing multiple entities must identify a primary applicant responsible for administering the grant.

Project Duration: This announcement is inviting applications for project periods up to five years. Awards, on a competitive basis, will be for a one-year budget period, although project periods may be for five years. Applications for continuation grants funded under these awards beyond the one-year budget period but within the five year project period will be entertained in subsequent years on a noncompetitive basis, subject to availability of funds, satisfactory progress of the grantee and a determination that continued funding would be in the best interest of the Government.

Federal Share of Project Costs: The maximum Federal share of the project is $4,439,000 per budget year.

Matching or Cost Sharing Requirement: This project is being funded under both the Adoptions Opportunity program, which as no match requirement, and the Children's Health Act, which has a 25 percent match requirement. Therefore, grantees must provide at least 25 percent of only $2,839,000 of the total approved cost of the project. The non-Federal share may be met by cash or in-kind contributions, although applicants are encouraged to meet their match requirements through cash contributions. Therefore, a project requesting any amount more than $14,195,000 of Federal funds (based on an award of more than $2,839,000 per budget period) must provide a match of at least $4,731,667 (25 percent of $14,195,000 of the total project cost). Grantees will be held accountable for commitments of non-Federal resources even if over the amount of the required match. Failure to provide the amount will result in disallowance of Federal match.

Anticipated Number of Projects to be Funded: It is anticipated that one project will be funded.

2002A.5 Addressing Barriers to Cross-Jurisdictional Placement

Eligible Applicants: State child welfare agencies, State courts, licensed child welfare or adoption agencies, advocacy groups, associations that support cross-jurisdictional adoption activities, public or private faith and community-based non-profit licensed child welfare or adoption agencies, and coalitions or collaborations of those groups are eligible to apply but must identify a principal applicant. Faith-based organizations are eligible to apply for these grants. Faith-based, community-based and primary applicants in collaborations or coalitions must be otherwise eligible to apply for these grants.

Project Duration: This announcement is inviting applications for project periods up to five years. Awards, on a competitive basis, will be for a one-year budget period, although project periods may be for five years. Applications for continuation grants funded under these awards beyond the one-year budget period but within the five year project period will be entertained in subsequent years on a noncompetitive basis, subject to availability of funds, satisfactory progress of the grantee and a determination that continued funding would be in the best interest of the Government.

Federal Share of Project Cost: The maximum Federal share of the project is $300,000 per budget year.

Matching Requirements: Grantees must provide at least 10 percent of the total approved cost of the project. The total approved cost of the project is the sum of the ACF share and the non-Federal share. The non-Federal share may be met by cash or in-kind contributions, although applicants are encouraged to meet their match requirements through cash contributions. Therefore, a project requesting $1,500,000 of Federal funds (based on an award of $300,000 per budget period) must provide a match of at least $166,667 (10 percent of the total project cost). Grantees will be held accountable for commitments of non-Federal resources even if over the amount of the required match. Failure to provide the amount will result in disallowance of Federal match.

Anticipated Number of Projects to be Funded: It is anticipated that one project will be funded.

2002B.1 National Resource Center for Programs Serving Abandoned Infants and Infants at Risk of Abandonment and Their Families

Eligible Applicants: Public or private non-profit agencies, organizations, and institutions of higher learning may apply. Faith-based organizations are eligible to apply for these grants.

Project Duration: This announcement is inviting applications for project periods up to four years. Awards, on a competitive basis, will be for a one-year budget period, although project periods may be for four years. Applications for continuation grants funded under these awards beyond the one-year budget period but within the four year project period will be entertained in subsequent years on a noncompetitive basis, subject to availability of funds, satisfactory progress of the grantee and a determination that continued funding would be in the best interest of the Government.

Federal Share of Project Costs: The Federal share of the project is $700,000 per 12-month budget period.

Matching Requirement: Grantees must provide at least 10 percent of the total approved cost of the project. The total approved cost of the project is the sum of the ACF share and the non-Federal share. The non-Federal share may be met by cash or in-kind contributions, although applicants are encouraged to meet their match requirements through cash contributions. Therefore, a project requesting $2,800,000 of Federal funds (based on an award of $700,000 per budget period) must provide a match of at least $311,111 (10 percent of the total project cost). Grantees will be held accountable for commitments of non-Federal resources even if over the amount of the required match. Failure to provide the amount will result in disallowance of Federal match.

Anticipated Number of Projects to be Funded: It is anticipated that one project will be funded.

2002C.1 National Resource Center for Community-Based Family Resource and Support Programs

Eligible Applicants: Public or private non-profit agencies, including faith-based agencies, organizations, and institutions of higher education may apply. Collaborative efforts and interdisciplinary approaches are encouraged. Faith-based organizations are eligible to apply. Applications from collaborations must identify a primary applicant responsible for administering the grants.

Project Duration: This announcement is inviting applications for a project period up to two years. The award, on a competitive basis, will be for a one-year budget period, although the project period may be for two years. Applications for continuation grants funded under these awards beyond the one-year budget period will be entertained in subsequent years on a noncompetitive basis, subject to availability of funds, satisfactory progress of the grantee and a determination that continued funding would be in the best interest of the Government.

Federal Share of Project Costs: The maximum Federal share of the project is $1,075,000 per budget year.

Matching or Cost Sharing Requirement: Grantees must provide at least 10 percent of the total approved cost of the project. The total approved cost of the project is the sum of the ACF share and the non-Federal share. The non-Federal share may be met by cash or in-kind contributions, although applicants are encouraged to meet their match requirements through cash contributions. Therefore, a project requesting $2,150,000 of Federal funds (based on an award of $1,075,000 per budget period) must provide a match of at least $238,889 (10 percent of the total project cost). Grantees will be held accountable for commitments of non-Federal resources even if over the amount of the required match. Failure to provide the amount will result in disallowance of Federal match.

Anticipated Number of Projects to be Funded: It is anticipated that one project will be funded.

2002C.2 Grants to Tribes, Tribal Organizations, and Migrant Programs for Community-Based Family Resource and Support Programs

It is anticipated that three grants (one each to a tribe, a tribal organization, and a migrant program) will be funded under this announcement for $109,450 per grantee for FY 2002. This amount reflects the maximum Federal share of this project not exceeding one-third (1/3) of one percent (1%) of the Federal appropriation for Title II for each 12-month budget period.

Eligible Applicants: Indian tribes, tribal organizations, and migrant programs with the capacity to establish and maintain family resource services for the prevention of child abuse and neglect and linkages with the State Network of Community-Based Family Resource and Support Programs may apply. Collaborative efforts and interdisciplinary approaches are encouraged. Applicants must specify if they are applying as a “Tribe” or “Tribal Organization” or “Migrant Program.”

Project Duration: This announcement is inviting applications for project periods up to three years. Awards, on a competitive basis, will be for a one-year budget period, although project periods may be for three years. Applications for continuation grants funded under these awards beyond the one-year budget period but within the three-year project period will be entertained in subsequent years on a noncompetitive basis, subject to availability of funds, satisfactory progress of the grantee and a determination that continued funding would be in the best interest of the Government.

Federal Share of Project Costs: The maximum Federal share of the project is projected to be $109,450 per budget year.

Matching or Cost Sharing Requirement: There is no match required.

Anticipated Number of Projects To Be Funded: It is anticipated that three projects will be funded, one in each area.

Evaluation Criteria

Reviewers will consider the following factors when scoring applications. Applicants, in order to adequately prepare their applications, must refer to the full program announcement for the specific evaluation criteria for each priority area. The points awarded for each criterion vary, depending on the specific area.

Criterion 1: Objectives and Need for Assistance. Applications will be judged on the extent to which they clearly specify the purposes and/or strategies of the proposed project and their relationship to legislative authority and child welfare outcomes, as appropriate; the quality of their statement regarding the need for the project; and evidence that the applicant understands current issues and recent developments in the field that may have relevance to the implementation of the project. Applicants must refer to the specific evaluation criteria for each priority area contained in the full Program Announcement in order to adequately prepare their applicants. The points awarded for this criterion vary, depending on the specific priority area.

Criterion 2: Approach. Applicants will be judged on the clarity, feasibility, and thoroughness of their description of the approach that they intend to use in implementing proposed projects. The approach sections will be expected to include, as appropriate, information on barriers to implementation and proposed solutions to those barriers; necessary collaborations with other organizations and agencies and their respective roles; evaluation plans; reporting requirements; and staffing plans. Applicants must refer to the specific evaluation criteria for each priority area contained in the full Program Announcement in order to adequately prepare their applications. The points awarded for this criterion vary, depending on the specific priority area.

Criterion 3: Organizational Profiles. Applicants will be judged on the experience and demonstrated competence of staff who are proposed to implement the project and, as appropriate, the experience of the organization in implementing related projects. Applicants must refer to the specific evaluation criteria for each priority area contained in the full Program Announcement in order to adequately prepare their applications. The points awarded for this criteria vary, depending on the specific priority area.

Criterion 4: Budget and Budget Justification. Applicants will be judged on the adequacy, reasonableness, and completeness of their budget requests to support their proposed projects, including their management plans to control and account for expenditure of project funds. Applicants must refer to the specific evaluation criteria for each priority area contained in the full Program Announcement in order to adequately prepare their applicants. The points awarded for their criterion vary, depending on the specific priority area.

Required Notification of the Single Point of Contact

Most portions of this program are covered under Executive Order 12372, Intergovernmental Review of Federal Programs, and 45 CFR part 100, Intergovernmental Review of Department of Health and Human Services Program and Activities. Under the Order, States may design their own processes for reviewing and commenting on proposed Federal assistance under covered programs.

All States and Territories except Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington, and Wyoming have elected to participate in the Executive Order process and have established Single Points of Contact (SPOCs). Applicants from these jurisdictions need take no action regarding E.O. 12372. Applicants for projects to be administered by Federally recognized Indian Tribes are also exempt from the requirements of E.O. 12372. Applicants to the Adoption Opportunities program are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a.

Under 45 CFR 100.8(a)(2), a SPOC has 60 days from the application deadline to comment on proposed new or competing continuation awards. SPOCs are encouraged to eliminate the submission of routine endorsements as official recommendations. Additionally, SPOCs are requested to clearly differentiate between mere advisory comments and those official State process recommendations which may trigger the accommodate or explain rule. A list of the Single Points of Contact for each State and Territory can be found on line at http://www.whitehouse.gov/omb/grants/spoc.html.

Dated: April 4, 2002.
Joan E. Ohl,
Commissioner, Administration on Children, Youth and Families.

[FR Doc. 02-8754 Filed 4-10-02; 8:45 am]

BILLING CODE 4184-01-M